DEPARTMENT OF TRANSPORTATION

Federal Aviation Administration

Public Notice for Waiver of Aeronautical Land-Use Assurance Waterville Robert LaFleur Airport, Waterville, Maine

AGENCY: Federal Aviation Administration (FAA), DOT.

ACTION: Request for public comments. Notice of intent of waiver with respect to land.

SUMMARY: The FAA is considering a proposal that a portion of airport property (approximately 16 acres located West and North of the airport along Airport Road Extension) is no longer needed for aeronautical use, as shown on the Airport Layout Plan. There appear to be no impacts to the airport by allowing the disposal of the property. The land was acquired under FAA Project Nos. 6-23-0047-06, 6-23-0047-07 and 6-23-0047-08 (portion of parcels 7, 8, and 9).

In accordance with section 47107(h) of title 49, united States Code, this notice is required to be published in the Federal Register thirty (30) days before modifying the land-use assurance which requires that the property be used for an aeronautical purpose. The purpose of the release of land will allow development of an industrial park associated with an Economic Development Administration grant and access to a designated Federal free trade zone.

DATES: Comments must be received on or before January 12, 2001.

FOR FURTHER INFORMATION CONTACT: Donna R. Witte, Airports Division, 12 New England Executive Park, Burlington, Massachusetts 01803. Telephone No. 781-238-7624/Fax 781-238-7608. Documents reflecting the proposed FAA action may be reviewed in person at 16 New England Executive Park, Burlington, Massachusetts or Mr. Gregory Brown, Public Works Director, City of Waterville, Maine, 1 Common Street, Waterville, Maine.

SUPPLEMENTARY INFORMATION: This notice announces that the FAA in considering the release of the subject airport property at Waterville Robert LaFleur Airport, Waterville, Maine. The disposition of proceeds from the disposal of airport property will be in accordance with FAA's Policy and Procedures Concerning the Use of Airport Revenue, published in the Federal Register on February 16, 1999.

Issued in Burlington, Massachusetts on December 1, 2000.
Vincent A. Scarano,
Manager, Airports Division, New England Region.

[FR Doc. 00-31708 Filed 12-12-00; 8:45 am]

BILLING CODE 4910-13-M